COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds services to the Procurement List that will be furnished by nonprofit agencies employing persons who are blind or have other severe disabilities, and deletes a product and services from the Procurement List previously furnished by such agencies.

DATES: Date added to and deleted from the Procurement List: April 26, 2020.

ADDRESSES: Committee for Purchase From People Who Are Blind or Severely Disabled, 1401 S. Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

On 11/22/2019 and 12/13/2019, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 8501-8506) in connection with the services proposed for addition to the Procurement List.

End of Certification

Accordingly, the following services are added to the Procurement List:

Services

Service Type: Conference Center Management

Mandatory for: DHS, Transportation Security Administration Headquarters, Springfield, VA

Mandatory Source of Supply: Didlake, Inc., Manassas, VA

Contracting Activity: TRANSPORTATION SECURITY ADMINISTRATION, WEO

Service Type: Custodial Service

Mandatory for: U.S. Air Force, Hurlburt Field, FL

Mandatory Source of Supply: Brevard Achievement Center, Inc., Rockledge, FL

Contracting Activity: DEPT OF THE AIR FORCE, FA4417 1 SOCONS LGC

Deletions

On 2/21/2020, the Committee for Purchase From People Who Are Blind or Severely Disabled published notice of proposed deletions from the Procurement List.

After consideration of the relevant matter presented, the Committee has determined that the product and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and services to the Government.

3. There are no known regulatory alternatives which would accomplish the objectives of the Javits-Wagner-O'Day Act (41 U.S.C. 8501-8506) in connection with the product and service(s) deleted from the Procurement List.

End of Certification

Accordingly, the following product and services are deleted from the Procurement List:

Product

NSN—Product Name:

7530-01-515-7899—Paper, Printer, Ink Jet, Photo Quality, Glossy, Letter, 89 Bright White

Mandatory Source of Supply: Wiscraft, Inc., Milwaukee, WI

Contracting Activity: GSA/FAS ADMIN SVCS ACQUISITION BR(2, NEW YORK, NY

Services

Service Type: JWOD Staffing Services

Mandatory for: GSA, Nationwide

Contracting Activity: GENERAL SERVICES ADMINISTRATION, FPDS AGENCY COORDINATOR

Service Type: Switchboard Operation

Mandatory for: Veterans Affairs Medical Center: 3601 South 6th Avenue, Tucson, AZ

Mandatory Source of Supply: Southern Arizona Association for the Visually Impaired deleted, Tucson, AZ

Contracting Activity: VETERANS AFFAIRS, DEPARTMENT OF, NAC

Service Type: Janitorial/Custodial

Mandatory for: Hoffman I Building: 2461 Eisenhower Avenue, Alexandria, VA

Mandatory Source of Supply: Melwood Horticultural Training Center, Inc., Upper Marlboro, MD

Contracting Activity: DEPT OF DEFENSE, DOD/OFF OF SECRETARY OF DEF (EXC MIL DEPTS)

Service Type: Janitorial/Custodial

Mandatory for: U.S. Army Reserve Center: 5300 Jack Gibb Blvd., Columbus, OH

Mandatory Source of Supply: Licking-Knox Goodwill Industries, Inc., Newark, OH

Contracting Activity: DEPT OF THE ARMY, W6QM MICC FT MCCOY (RC)

Service Type: Janitorial/Grounds Maintenance

Mandatory for: U.S. Army Reserve Center: Hilo, Hilo, HI

Mandatory Source of Supply: The ARC of Hilo, Hilo, HI

Contracting Activity: DEPT OF THE ARMY, 0413 AQ HQ

Service Type: Administrative Services

Mandatory for: U.S. Federal Building and Courthouse: Poff, Roanoke, VA

Mandatory Source of Supply: Goodwill Industries of the Valleys, Inc., Roanoke, VA

Contracting Activity: PUBLIC BUILDINGS SERVICE, GSA/PBS/R03 REGIONALCONTRACTS SUPPORT SERVICES SECTION

Service Type: ShadowBoarding

Mandatory for: Anniston Army Depot: 7 Frankford Avenue, Bldg 221, Anniston, AL

Contracting Activity: DEPT OF THE ARMY, W0LX ANNISTON DEPOT PROP DIV

Service Type: Grounds Maintenance

Mandatory for: U.S. Army Reserve Center: Caesar Creek Lake, Caesar Creek Lake, OH

Contracting Activity: DEPT OF THE ARMY, W40M RHCO-ATLANTIC USAHCA

Service Type: Janitorial/Custodial

Mandatory for: Special Mental Health Clinic, Grand Rapids, MI

Mandatory Source of Supply: Hope Network Services Corporation, Grand Rapids, MI

Mandatory for: VA, Grand Rapids Community Based Outpatient Clinic, Grand Rapids, MI

Contracting Activity: VETERANS AFFAIRS, DEPARTMENT OF, 610-MARION

Service Type: Management Services

Mandatory for: Department of Housing & Urban Development, Seattle, WA

Mandatory Source of Supply: Pacific Coast Community Services, Richmond, CA

Contracting Activity: HOUSING AND URBAN DEVELOPMENT, DEPARTMENT OF, DEPT OF HOUSING AND URBAN DEVELOPMENT

Service Type: Janitorial/Custodial

Mandatory for: Greensburg AMSA 104, Greensburg, PA

Mandatory for: AMSA #106, Punxsutawney, PA

Service Type: Janitorial/Custodial

Mandatory for: James A. Haley Veterans Hospital, Tampa, FL

Contracting Activity: VETERANS AFFAIRS, DEPARTMENT OF, NAC

Service Type: Mailroom Operation, Operation of Supply Room

Mandatory for: US Army Corps of Engineers, Estes Kefauver Building, Nashville, TN

Mandatory for: US Army Corps of Engineers, Estes Kefauver Bldg, Nashville, TN

Contracting Activity: DEPT OF THE ARMY, W072 ENDIST NASHVILLE

Service Type: Mailroom Operations

Mandatory for: U.S. Geological Survey, Menlo Park Science Center, CA

Mandatory Source of Supply: Hope Services, San Jose, CA

Contracting Activity: GEOLOGICAL SURVEY, OFFICE OF ACQUISITION AND GRANTS—SACRAMENTO

Service Type: Laundry Service

Mandatory for: James H. Quillen VA Medical Center, Mountain Home, TN

Contracting Activity: VETERANS AFFAIRS, DEPARTMENT OF, NAC

Service Type: Janitorial/Custodial

Mandatory for: Kennesaw National Battlefield Park Visitor Center, Kennesaw, GA

Mandatory Source of Supply: Nobis Enterprises, Inc., Marietta, GA

Contracting Activity: OFFICE OF POLICY, MANAGEMENT, AND BUDGET, NBC ACQUISITION SERVICES DIVISION

Service Type: Grounds Maintenance

Mandatory for: District Ranger Office Building & Wahweap Housing: Unit, Glen Canyon National Recreation Area, Page, AZ

Contracting Activity: OFFICE OF POLICY, MANAGEMENT, AND BUDGET, NBC ACQUISITION SERVICES DIVISION

Service Type: Janitorial/Custodial

Mandatory for: Biscayne National Park, Dade County, FL

Contracting Activity: OFFICE OF POLICY, MANAGEMENT, AND BUDGET, NBC ACQUISITION SERVICES DIVISION

Service Type: Warehousing & Distribution Service

Mandatory for: Internal Revenue Service Business Operations Offices: 333 Market Street, San Francisco, CA

Mandatory Source of Supply: Bobby Dodd Institute, Inc., Atlanta, GA

Contracting Activity: TREASURY, DEPARTMENT OF THE, DEPT OF TREAS/

Service Type: Grounds Maintenance

Mandatory for: U.S. Army Reserve Facility: 8801 N. Chautauqua Boulevard Sharff Hall, West, Portland, OR

Mandatory Source of Supply: Relay Resources, Portland, OR

Contracting Activity: DEPT OF THE ARMY, W40M RHCO-ATLANTIC USAHCA

Service Type: Grounds Maintenance

Mandatory for: U.S. Army Reserve Facility: 2731 SW Multnomah Boulevard, Sears Hall, South, Portland, OR

Mandatory Source of Supply: Relay Resources, Portland, OR

Contracting Activity: DEPT OF THE ARMY, W40M RHCO-ATLANTIC USAHCA

Service Type: Janitorial/Custodial

Mandatory for: U.S. Army Reserve Center: 4th & Hiller Street, Brownsville, PA

Contracting Activity: DEPT OF THE ARMY, W6QM MICC CTR-FT DIX (RC)

Service Type: Janitorial/Custodial

Mandatory for: U.S. Army Reserve Center: 254 McClellandtown Road, Uniontown, PA

Mandatory for: U.S. Army Reserve Center: 900 Armory Drive, Greensburg, PA

Contracting Activity: DEPT OF THE ARMY, W6QM MICC CTR-FT DIX (RC)

Service Type: Janitorial/Custodial

Mandatory for: Veterans Affairs Medical Center: Outpatient Clinic, Orlando, FL

Contracting Activity: VETERANS AFFAIRS, DEPARTMENT OF, NAC

Service Type: Administrative Services

Mandatory for: Department of Veterans Affairs, James A. Quillen VA Medical Center, Mountain Home, TN

Contracting Activity: VETERANS AFFAIRS, DEPARTMENT OF, 621-MOUNTAIN HOME

Service Type: Mailroom Operation

Mandatory for: Immigration & Customs Enforcement, 1100 Center Parkway, Atlanta, GA

Mandatory for: Immigration & Customs Enforcement, 180 Spring Street SW, Atlanta, GA

Mandatory for: Immigration & Customs Enforcement, 2150 Park Lake Drive, Atlanta, GA

Mandatory Source of Supply: Bobby Dodd Institute, Inc., Atlanta, GA

Contracting Activity: U.S. IMMIGRATION AND CUSTOMS ENFORCEMENT, MISSION SUPPORT ORLANDO

Service Type: Administrative Support

Mandatory for: USDA Forest Service: 4931 Broad River Road, Columbia, SC

Contracting Activity: FOREST SERVICE, DEPT OF AGRIC/FOREST SERVICE

Service Type: Janitorial/Custodial

Mandatory for: Tupelo Visitors Center and Headquarters: Natchez Trace Parkway, Tupelo, MS

Contracting Activity: OFFICE OF POLICY, MANAGEMENT, AND BUDGET, NBC ACQUISITION SERVICES DIVISION

Service Type: Food Service Attendant

Mandatory for: Veterans Affairs Medical Center: Corner of Lamont and Sydney Streets, Mountain Home, TN

Contracting Activity: VETERANS AFFAIRS, DEPARTMENT OF, 249P-NETWORK CONTRACT OFFICE 9

Service Type: Administrative Services

Mandatory for: Building 8-1078, 1-3571, C-7417, 8-6643, Fort Bragg, NC

Mandatory Source of Supply: ServiceSource, Inc., Oakton, VA

Contracting Activity: DEPT OF THE ARMY, W6QM MICC FDO FT BRAGG

Service Type: Janitorial/Custodial

Mandatory for: Illinois Waterway Visitor Center: Dee Bennett Road, Utica, IL

Contracting Activity: DEPT OF THE ARMY, W40M RHCO-ATLANTIC USAHCA

Service Type: Grounds Maintenance

Mandatory for: U.S. Army Reserve Center: 271 Hedges Street Scouten, Mansfield, OH

Contracting Activity: DEPT OF THE ARMY, W6QM MICC FT MCCOY (RC)

Service Type: Janitorial/Custodial

Mandatory for: Vice President Living Quarters: Naval Observatory, Washington, DC

Mandatory Source of Supply: Melwood Horticultural Training Center, Inc., Upper Marlboro, MD

Contracting Activity: FEDERAL PRISON SYSTEM, TERMINAL ISLAND, FCI

Service Type: Janitorial/Custodial

Mandatory for: Defense National Stockpile Depot: Hoyt Avenue, Binghamton, NY

Contracting Activity: DEFENSE LOGISTICS AGENCY, DEFENSE NATIONAL STOCKPILE CENTER

Service Type: Laundry Service

Mandatory for: Yakima Training Center, Yakima, WA

Mandatory Source of Supply: Yakima Specialties, Inc., Yakima, WA

Contracting Activity: DEPT OF THE ARMY, W40M RHCO-ATLANTIC USAHCA

Michael R. Jurkowski,
Deputy Director, Business & PL Operations.

[FR Doc. 2020-06452 Filed 3-26-20; 8:45 am]

BILLING CODE 6353-01-P